ENVIRONMENTAL PROTECTION AGENCY

[RCRA-2004-0005; FRL-7778-9]

Agency Information Collection Activities: Proposed Collection; Comment Request; Reporting and Recordkeeping Requirements for Universal Waste Handlers and Destination Facilities

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Reporting and Recordkeeping Requirements for Universal Waste Handlers and Destination Facilities, ICR Number 1597.06, OMB Control Number 2050-0145. This ICR is scheduled to expire on November 30, 2004. Before submitting the ICR to OMB for review and approval, EPA is soliciting comments on specific aspects of the proposed information collection as described below.

DATES: Comments must be submitted on or before August 24, 2004.

ADDRESSES: Submit your comments, referencing docket ID No. RCRA-2204-0005 to EPA online using EDOCKET (our preferred method), by e-mail to: RCRA-docket@epa.gov, or by mail to: EPA Docket Center (5305T), U.S. Environmental Protection Agency, OSWER Docket, 1200 Pennsylvania Ave, NW., Washington, DC 20460. Follow the detailed instructions provided in the SUPPLEMENTARY INFORMATION section.

FOR FURTHER INFORMATION CONTACT: Tab Tesnau, Office of Solid Waste (5303W), Environmental Protection Agency, 1200 Pennsylvania Avenue, NW., Washington, DC 20460, (703) 605-0636, or by e-mail tesnau.tab@epa.gov.

SUPPLEMENTARY INFORMATION: EPA has established a public docket for this ICR under Docket ID No. RCRA-2004-0005. Documents in the official public docket are listed in the index list in EPA's electronic public docket and comment system, EDOCKET. Documents may be available either electronically or in hard copy. Electronic documents may be viewed through EDOCKET. Hard copy documents may be viewed at the OSWER Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the OSWER Docket is (202) 566-0270. An electronic version of the public docket is available through EPA Docket (EDOCKET) at http://www.epa.gov/docket.

You may use EDOCKET to obtain a copy of the draft collection of information, submit or view public comments, access the index listing of the contents of the public docket, and to access those documents in the public docket that are available electronically. Once in the system, select “search,” then key in the docket ID number identified above.

Certain types of information will not be placed in EDOCKET. Information claimed as CBI, and other information whose disclosure is restricted by statute, which is not included in the official public docket, will not be available for public viewing in EDOCKET. EPA's policy is that copyrighted material will not be placed in EDOCKET but will be available only in printed, paper form in the official public docket. Publicly available docket materials that are not available electronically may be viewed at the EPA Docket Center.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EDOCKET. The entire printed comment, including the copyrighted material, will be available in the public docket.

Public comments submitted on computer disks that are mailed or delivered to the docket will be transferred to EDOCKET. Public comments that are mailed or delivered to the Docket will be scanned and placed in EDOCKET. Where practical, physical objects will be photographed, and the photograph will be placed in EDOCKET along with a brief description written by the docket staff.

Any comments related to this ICR should be submitted to EPA within 60 days of this notice. You may submit comments electronically, by mail, or through hand delivery/courier. To ensure proper receipt by EPA, identify the appropriate docket identification number in the subject line on the first page of your comment. Please ensure that your comments are submitted within the specified comment period. Comments received after the close of the comment period will be marked “late.” EPA is not required to consider these late comments in formulating a final decision.

If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EDOCKET. If EPA cannot read your comment due to technical difficulties and cannot contact you for clarification, EPA may not be able to consider your comment.

Your use of EDOCKET to submit comments to EPA electronically is EPA's preferred method for receiving comments. Go directly to EDOCKET at http://www.epa.gov/edocket, and follow the online instructions for submitting comments. Once in the system, select “search,” and then key in Docket ID No. RCRA-2004-0005. The system is an “anonymous access” system, which means EPA will not know your identity, e-mail address, or other contact information unless you provide it in the body of your comment.

Electronic comments may also be sent through the federal-wide eRulemaking Web site at www.regulations.gov.

Comments may be sent by electronic mail (e-mail) to RCRA-docket@epa.gov, Attention Docket ID No. RCRA-2004-0005. In contrast to EPA's electronic public docket, EPA's e-mail system is not an “anonymous access” system. If you send an e-mail comment directly to the Docket without going through EDOCKET, EPA's e-mail system automatically captures your e-mail address. E-mail addresses that are automatically captured by EPA's e-mail system are included as part of the comment that is placed in the official public docket, and made available in EDOCKET.

You may submit comments on a disk or CD ROM that you mail to the mailing address identified below. These electronic submissions will be accepted in WordPerfect or ASCII file format. Avoid the use of special characters and any form of encryption.

Send your comments to: OSWER Docket, Environmental Protection Agency, Mailcode 5305T, 1200 Pennsylvania Ave., NW., Washington, DC, 20460, Attention Docket ID No. RCRA-2004-0005.

Deliver your comments to: EPA Docket Center, EPA West, Room B102, 1301 Constitution Ave., NW., Washington, DC, Attention Docket ID No. RCRA-2004-0005. Such deliveries are only accepted during the Docket's normal hours of operation as identified above.

Affected entities: Entities potentially affected by this action are waste handlers and destination facilities that collect and manage certain hazardous waste batteries, certain hazardous waste pesticides, hazardous waste mercury-containing thermostats, and hazardous waste lamps.

Title: Reporting and Recordkeeping Requirements for Universal Waste Handlers and Destination Facilities, OMB Control number 2050-0145, EPA ICR number 1597.06, expiration date: 11/30/2004.

Abstract: EPA promulgated the Universal Waste standards at 40 CFR part 273. The Universal Waste standards govern the collection and management of widely generated wastes known as universal wastes. EPA has identified hazardous waste batteries, certain hazardous waste pesticides, hazardous waste thermostats, and hazardous waste lamps as universal wastes. Other wastes may be added to the universal waste federal program if EPA determines such regulation is appropriate. Additional wastes can be added by states as a “state-only” waste. The regulations allow universal waste handlers to manage universal wastes under a reduced set of regulatory requirements. Destination facilities, on the other hand, (i.e., those facilities accepting universal waste for treatment, recycling, or disposal) remain subject to their regular requirements. The universal waste regulations at part 273 were promulgated by EPA under the authority of Subtitle C in RCRA.

This information collection targets the collection of information for the following reporting or recordkeeping requirements: Notification, labeling and marking, storage time limitations, off-site shipments, tracking of universal waste shipments, and petitions to include other waste categories at the federal level. It is necessary for EPA to collect universal waste information to ensure that universal waste is collected and managed in a manner that is protective of human health and the environment. EPA requires, among other things, Large Quantity Handlers of Universal Waste to notify the Agency of their universal waste management activities so that EPA can obtain general information on these handlers, and to facilitate enforcement of the regulations at part 273. In addition, EPA requires universal waste handlers to record the date on which they begin storing universal waste on-site to ensure that such accumulation is performed responsibly. EPA also requires certain universal waste handlers to track receipt of universal waste shipments as well as shipments sent off-site to ensure that universal waste is properly treated, recycled, and disposed. Finally, the submission of petitions in support of regulating other wastes or waste categories under part 273 helps EPA (1) to compile information on these wastes, and (2) to determine whether regulation as a universal waste is appropriate.

An agency may not conduct or sponsor, and a person is not required to respond to, a collection of information unless it displays a currently valid OMB control number. The OMB control numbers for EPA's regulations are listed in 40 CFR part 9 and 48 CFR chapter 15.

EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The average public recordkeeping burden for Small Quantity Handlers of Universal Waste (SQHUWs) under this collection of information is estimated to be 1.4 hours per year. This estimate includes time for reading the regulations, labeling universal waste, and maintaining records demonstrating the length of storage. The reporting burden for SQHUWs (for submitting notices of rejected or illegal universal waste shipments) is expected to be negligible. The recordkeeping burden for Large Quantity Handlers of Universal Waste (LQHUWs) under this collection of information is estimated to be 2.8 hours per year. This estimate includes time for reading the regulations, labeling universal waste, maintaining records demonstrating the length of storage, and maintaining records of universal waste received and sent. The reporting burden for LQHUWs is estimated to be 0.5 hours per year. This estimate includes time for notifying EPA of universal waste management, and preparing and submitting notices of rejected or illegal universal waste shipments. The recordkeeping burden for destination facilities is estimated to be 183.1 hours per year. This estimate includes time for reading the regulations and maintaining records of universal waste received. The reporting burden for destination facilities is estimated to be 18.4 hours per year. This estimate includes time for preparing and submitting notices of rejected or illegal universal waste shipments.

Respondents/Affected Entities: SQHUWs, LQHUWs, and Destination Facilities.

Estimated Number of Respondent: 119,738 (118,367 SQHUWs, 1,313 LQHUWs, and 58 Destination Facilities).

Frequency of Response: as needed.

Estimated Total Annual Hour Burden: 185,682 hours.

Over a 3 year period: 556,872.

Estimated Total Annualized Capital, O&M Cost Burden: $2,098.

Over a three year period: $6,295.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 15, 2004.
Robert Springer,
Director, Office of Solid Waste.

[FR Doc. 04-14458 Filed 6-24-04; 8:45 am]

BILLING CODE 6560-50-P